DEPARTMENT OF DEFENSE

Office of the Secretary

[Docket No. DoD-2010-OS-0013]

Submission for OMB Review; Comment Request

ACTION: Notice.

The Department of Defense has submitted to OMB for clearance, the following proposal for collection of information under the provisions of the Paperwork Reduction Act (44 U.S.C. Chapter 35).

DATES: Consideration will be given to all comments received by October 27, 2010.

Title and OMB Number: Post-Election Surveys; OMB Control Number 0704-0125.

Type of Request: Revision.

Title of Survey: The 2010 Post-Election Voting Survey of Overseas Citizens.

Number of Respondents: 250,000.

Responses per Respondent: 1.

Average Burden per Response: 30 minutes.

Annual Burden Hours: 125,000.

Affected Public: Individuals or Households.

Frequency: One Time.

Title of Survey: The 2010 Post-Election Voting Survey of Local Election Officials.

Number of Respondents: 7,900.

Responses per Respondent: 1.

Average Burden per Response: 30 minutes.

Annual Burden Hours: 3,950 hours.

Affected Public: State, Local or Tribal Government.

Frequency: One time.

Needs and Uses: The information collection requirement is necessary to meet a requirement of the Uniformed and Overseas Citizens Absentee Voting Act (UOCAVA of 1986 [42 U.S.C. 1973ff]). UOCAVA requires a report to the President and Congress on the effectiveness of assistance under the Act, a statistical analysis of voter participation, and a description of State-Federal cooperation.

Respondent's Obligation: Voluntary.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DoD Clearance Officer: Ms. Patricia Toppings/Written requests for copies of the information collection proposal should be sent to Ms. Toppings at WHS/ESD/Information Management Division, 1777 North Kent Street, RPN, Suite 11000, Arlington, VA 22209-2133.

Dated: September 23, 2010.
Patricia L. Toppings,
OSD Federal Register Liaison Officer, Department of Defense.

[FR Doc. 2010-24091 Filed 9-24-10; 8:45 am]

BILLING CODE 5001-06-P